DEPARTMENT OF DEFENSE

Defense Acquisition Regulations System

[Docket Number DARS-2016-0045; OMB Control Number 0704-0253]

Information Collection Requirement; Defense Federal Acquisition Regulation Supplement; Subcontracting Policies and Procedures

AGENCY: Defense Acquisition Regulations System, Department of Defense (DoD).

ACTION: Notice and request for comments regarding a proposed extension of an approved information collection requirement.

SUMMARY: DoD announces the proposed extension of a public information collection requirement and seeks public comment on the provisions thereof. The Office of Management and Budget (OMB) has approved this information collection requirement for use through March 31, 2017. DoD proposes that OMB extend its approval for an additional three years.

DATES: DoD will consider all comments received by February 21, 2017.

ADDRESSES: You may submit comments, identified by OMB Control Number 0704-0253, using any of the following methods:

○ Federal eRulemaking Portal: http://www.regulations.gov. Follow the instructions for submitting comments.

○ Email: osd.dfars@mail.mil. Include OMB Control Number 0704-0253 in the subject line of the message.

○ Fax: 571-372-6094.

○ Mail: Defense Acquisition Regulations System, Attn: Mr. Tom Ruckdaschel, OUSD(AT&L)DPAP/DARS, Room 3B941, 3060 Defense Pentagon, Washington, DC 20301-3060.

Comments received generally will be posted without change to http://www.regulations.gov, including any personal information provided. To confirm receipt of your comment(s), please check www.regulations.gov approximately two to three days after submission to verify posting. Please allow 30 days for posting of comments submitted by postal mail.

FOR FURTHER INFORMATION CONTACT: Mr. Tom Ruckdaschel, telephone 571-372-6088. The information collection requirements addressed in this notice are available at: http://www.acq.osd.mil/dpap/dars/dfarspgi/current/index.html. Paper copies are available from Mr. Tom Ruckdaschel, OUSD(AT&L)DPAP(DARS), Room 3B941, 3060 Defense Pentagon, Washington, DC 20301-3060.

SUPPLEMENTARY INFORMATION: In compliance with Section 3506(c)(2)(A) of the Paperwork Reduction Act of 1995 (44 U.S.C. Chapter 35), DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology.

Title and OMB Number: Subcontracting Policies and Procedures—DoD FAR Supplement Part 244; OMB Control Number 0704-0253.

Needs and Uses: Administrative contracting officers use this information in making decisions to approve or disapprove a contractors purchase system. The disapproval of a contractor's purchasing system would necessitate Government consent to individual subcontracts and possibly prompt a financial withhold or other Government rights and remedies.

Affected Public: Businesses or other for-profit and not-for-profit institutions.

Respondents: 36.

Responses per Respondent: 2.

Annual Responses: 72.

Hours per Response: 8.

Estimated Hours: 576.

Frequency: On occasion.

Summary of Information Collection

DFARS 244.305, entitled Granting, Withholding, or Withdrawing Approval, provides policy guidance for administrative contracting officers to determine the acceptability of the contractor's purchasing system and approve or disprove the system, at the completion of the in-plant portion of a contractor purchasing system review, and to pursue correction of any deficiencies with the contractor. DFARS clause 252.244-7001, Contractor Purchasing System Administration requires the contractor to respond within 30 days to a written initial determination from the contracting officer that identifies significant deficiencies in the contractor's purchasing system. The contracting officer will evaluate the contractor's response to this initial determination and notify the contractor in writing of any remaining significant deficiencies, the adequacy of any proposed or completed corrective action and system disapproval if the contracting officer determines that one or more significant deficiencies remain. If the contractor receives the contracting officer's final determination of significant deficiencies, the contractor has 45 days to either correct the significant deficiencies or submit an acceptable corrective action plan.

Jennifer L. Hawes,
Editor, Defense Acquisition Regulations System.

[FR Doc. 2016-30667 Filed 12-21-16; 8:45 am]

BILLING CODE 5001-06-P